DEPARTMENT OF THE INTERIOR

Fish and Wildlife Service

[FWS-R3-ES-2010-N193; 30120-1113-0000-F6]

Endangered and Threatened Wildlife and Plants; Permit Applications

AGENCY: Fish and Wildlife Service, Interior.

ACTION: Notice of availability of permit applications; request for comments.

SUMMARY: We, the U.S. Fish and Wildlife Service, invite the public to comment on the following applications to conduct certain activities with endangered species. With some exceptions, the Endangered Species Act (Act) prohibits activities with endangered and threatened species unless a Federal permit allows such activity. The Act requires that we invite public comment before issuing these permits.

DATES: We must receive any written comments on or before October 12, 2010.

ADDRESSES: Send written comments by U.S. mail to the Regional Director, Attn: Peter Fasbender, U.S. Fish and Wildlife Service, Ecological Services, 1 Federal Drive, Fort Snelling, MN 55111-4056; or by electronic mail to permitsR3ES@fws.gov.

FOR FURTHER INFORMATION CONTACT: Peter Fasbender, (612) 713-5343.

SUPPLEMENTARY INFORMATION:

Background

We invite public comment on the following permit applications for certain activities with endangered species authorized by section 10(a)(1)(A) of the Act (16 U.S.C. 1531 et seq.) and our regulations governing the taking of endangered species in the Code of Federal Regulations (CFR) at 50 CFR 17. Submit your written data, comments, or request for a copy of the complete application to the address shown in ADDRESSES.

Permit Applications

Permit Application Number: TE195082.

Applicant: Thomas E. Tomasi, Missouri State University, Springfield, MO.

The applicant requests a permit renewal and amendment to take (capture, temporarily hold, and release) Indiana bats (Myotis sodalis) and gray bats (Myotis grisescens) in Missouri. Proposed activities include population monitoring, sampling and laboratory experimentation to investigate white-nose syndrome in the interest of enhancement of survival of the species in the wild.

Permit Application Number: TE151109.

Applicant: Ohio Department of Natural Resources, Division of Wildlife, Columbus, OH.

The applicant requests a permit renewal and amendment to take (capture and release; capture and hold in captivity for propagation) American burying beetle (Nicrophorus americanus) in Ohio. Propagation of the insects and reintroduction activities are aimed at recovery of the species and enhancement of survival of the species in the wild.

Permit Application Number: TE697830.

Applicant: Assistant Regional Director, Ecological Services, U.S. Fish and Wildlife Service, Twin Cities, MN.

The applicant requests a permit renewal and amendment to take listed species that occur within the States of Illinois, Indiana, Iowa, Michigan, Minnesota, Missouri, Ohio and Wisconsin for activities to recover the species and enhance the survival of the species in the wild. The amendment to the permit adds species listed or proposed for listing since January 2005 when the permit was renewed for its current term.

Permit Application Number: TE20323A.

Applicant: Wisconsin Department of Natural Resources, Madison, WI.

The applicant requests a permit for the potential inadvertent take (injury or mortality) of the eastern massasauga rattlesnake (Sistrurus catenatus catenatus) should the species become Federally-listed in the future. The rattlesnake is currently a Federal candidate species. Take associated with the permit may result from habitat management actions for the species at the Wisconsin Department of Natural Resources' Tiffany State Wildlife Area. These activities are described in the Eastern Massasauga Rattlesnake Candidate Conservation Agreement with Assurances for the Lower Chippewa River Bottoms, Buffalo and Pepin Counties, Wisconsin (EMR CCAA). The EMR CCAA agreement is a 10-year agreement between the U.S. Fish and Wildlife Service and the Wisconsin DNR. The permit application, the EMR CCAA, and the Environmental Assessment applicable to this application are available for review on the Service's Web site at: http://www.fws.gov/midwest/endangered/lists/candidat.html. The purpose of the proposed activities is enhancement of the survival of the species in the wild.

Permit Application Number: TE207523.

Applicant: The Nature Conservancy, Lansing, MI.

The applicant requests a permit amendment to take Karner Blue Butterfly (Lycaeides melissa samuelis) and Pitcher's thistle (Cirsium pitcheri) on lands within the State of Michigan. Take may occur during habitat management activities designed to enhance the available habitat for the species. Proposed activities are expected to increase habitat for both species and are aimed at enhancement of survival of the species in the wild.

Public Comments

We seek public review and comments on these permit applications. Please refer to the permit number when you submit comments. Comments and materials we receive are available for public inspection, by appointment, during normal business hours at the address shown in the ADDRESSES section. Before including your address, phone number, e-mail address, or other personal identifying information in your comment, you should be aware that your entire comment—including your personal identifying information—may be made publicly available at any time. While you can ask us in your comment to withhold your personal identifying information from public review, we cannot guarantee that we will be able to do so.

National Environmental Policy Act (NEPA)

In compliance with NEPA (42 U.S.C. 4321 et seq.), we have made an initial determination that the proposed activities in these permits are categorically excluded from the requirement to prepare an environmental assessment or environmental impact statement (516 DM 6 Appendix 1, 1.4C(1)), with the exception of Application Number TE20323A, for which an environmental assessment was prepared.

Lynn M. Lewis,
Assistant Regional Director, Ecological Services, Region 3.

[FR Doc. 2010-22442 Filed 9-8-10; 8:45 am]

BILLING CODE 4310-55-P